DEPARTMENT OF ENERGY

Federal Energy Regulatory Commission

[Project Nos. 1975-102 and P-2061-086]

Idaho Power Company; Notice of Application for Amendment of License and Soliciting Comments, Motions to Intervene, and Protests

September 13, 2010.

Take notice that the following hydroelectric application has been filed with the Commission and is available for public inspection:

a. Application Type: Amendment of license to amend project operation from run-of-river to load-following.

b. Project Nos.: 1975-102 and P-2061-086.

c. Date Filed: May 11, 2010 and May 5, 2010.

d. Applicant: Idaho Power Company.

e. Name of Project: Bliss (P-1975) and Lower Salmon Falls (P-2061).

f. Location: The Bliss Project (P-1975) is located on the Snake River in Gooding, Twin Falls and Elmore Counties, Idaho. The Lower Salmon Falls Project (P-2061) is located on the Snake River in Gooding and Twin Falls Counties, Idaho. Both projects occupy lands managed by the Bureau of Land Management. The Lower Salmon Falls project also occupies lands within the Hagerman Fossil Beds National Monument managed by the National Park Service.

g. Filed Pursuant to: Federal Power Act, 16 U.S.C. 791a—825r.

h. Applicant Contact: Nathan F. Gardiner, Idaho Power Company, 1221 West Idaho Street, P.O. Box 70, Boise, Idaho 83707-0070; telephone (208) 388-2975.

i. FERC Contact: Andrea Claros, telephone: (202) 502-8171, and e-mail address: andrea.claros@ferc.gov.

j. Deadline for filing comments, motions to intervene and protests: October 13, 2010.

Comments, protests, and interventions may be filed electronically via the Internet in lieu of paper. See 18 CFR 385.2001(a)(1)(iii) and the instructions on the Commission's Web site (http://www.ferc.gov/docs-filing/efiling.asp). Commenters can submit brief comments up to 6,000 characters, without prior registration, using the eComment system (http://www.ferc.gov/docs-filing/ecomment.asp) and must include name and contact information at the end of comments. The Commission strongly encourages electronic filings.

All documents (original and eight copies) filed by paper should be sent to: Secretary, Federal Energy Regulatory Commission, 888 First Street, NE., Washington, DC 20426. Please include the project numbers (P-1975-102 and P-2061-086) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: After the completion of a six-year study on the effects of load-following operation on the federally threatened Bliss Rapids snail, Idaho Power Company (licensee) is proposing to amend Article 401 of the licenses for the Bliss and Lower Salmon Falls Hydroelectric Projects to implement load-following operation rather than run-of-river operation. For the Bliss Project, the licensee proposes a minimum flow of 4,500 cubic feet per second (cfs), a hourly tailwater ramp rate of 3 feet per hour, a daily tailwater ramp rate of 6 feet per day and a headwater fluctuation limit of 2 feet from full pool. For the Lower Salmon Falls Project, the licensee proposes a minimum flow of 3,500 cfs, a hourly tailwater ramp rate of 2.5 feet per hour, a daily tailwater ramp rate of 5 feet per day and a headwater fluctuation limit of 2 feet from full pool. These limits were previously proposed by the licensee prior to the issuance of the project licensees in 2004.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-23365 Filed 9-17-10; 8:45 am]

BILLING CODE 6717-01-P